DEPARTMENT OF TRANSPORTATION

Federal Aviation Administration

14 CFR Part 71

[Docket No. FAA-2023-0501; Airspace Docket No. 23-AWP-3]

RIN 2120-AA66

Amendment of Very High Frequency (VHF) Omnidirectional Range (VOR) Federal Airways V-6, V-338, V-494, and United States Area Navigation (RNAV) Route T-331

AGENCY: Federal Aviation Administration (FAA), DOT.

ACTION: Final rule; correction.

SUMMARY: This action corrects a final rule published by the FAA in the Federal Register on May 15, 2023, that amends the Very High Frequency (VHF) Omnidirectional Range (VOR) Federal airways V-6, V-338, V-494, and United States Area Navigation (RNAV) route T-331 descriptions to reflect the name change from the Squaw Valley, CA, VOR/Distance Measuring Equipment (DME) navigational aid (NAVAID) to the Palisades, CA, VOR/DME. The description of V-6 in the final rule contained segments that were previously revoked as published by the FAA in the Federal Register on January 17, 2023. This action makes editorial corrections to the description of V-6.

DATES: Effective date 0901 UTC, August 10, 2023. The Director of the Federal Register approves this incorporation by reference action under 1 CFR part 51, subject to the annual revision of FAA Order 7400.11 and publication of conforming amendments.

ADDRESSES: A copy of the final rule, this final rule correction, and all background material may be viewed online at www.regulations.gov using the FAA Docket number. Electronic retrieval help and guidelines are available on the website. It is available 24 hours each day, 365 days each year.

FAA Order 7400.11G, Airspace Designations and Reporting Points, and subsequent amendments can be viewed online at https://www.faa.gov/air_traffic/publications/. For further information, you can contact the Rules and Regulations Group, Federal Aviation Administration, 800 Independence Avenue SW, Washington, DC 20591; telephone: (202) 267-8783.

FOR FURTHER INFORMATION CONTACT: Steven Roff, Rules and Regulations Group, Office of Policy, Federal Aviation Administration, 800 Independence Avenue SW, Washington, DC 20591; telephone: (202) 267-8783.

SUPPLEMENTARY INFORMATION:

History

The FAA published a final rule in the Federal Register for Docket No. FAA-2022-1113 (88 FR 2504; January 17, 2023), that amended VOR Federal airway V-6 in the vicinity of Litchfield, MI. The amendment revoked a segment of the airway between the intersection of the Chicago Heights, IL, VORTAC 358° and Gipper, MI, VORTAC 271° radials (NILES Fix), and the Gipper, MI, VORTAC.

The FAA published a final rule in the Federal Register for Docket No. FAA-2023-0501 (88 FR 30896; May 15, 2023), amending the VOR Federal airway V-6 description to reflect the name change from the Squaw Valley, CA, VOR/DME NAVAID to the Palisades, CA, VOR/DME. In this airspace action the segment of V-6 between the intersection of the Chicago Heights, IL, VORTAC 358° and Gipper, MI, VORTAC 271° radials (NILES Fix), and the Gipper, MI, VORTAC was included in the description in error.

This action corrects this error by removing the segment of V-6 between the intersection of the Chicago Heights, IL, VORTAC 358° and Gipper, MI, VORTAC 271° radials (NILES Fix), and the Gipper, MI, VORTAC from the airway description. No other portion of the airway is affected by this rule.

Correction to Final Rule

Accordingly, pursuant to the authority delegated to me, in Docket No. FAA-2023-0501, as published in the Federal Register of May 15, 2023 (88 FR 30896), FR Doc. 2023-10280, on page 30897, in the second and third columns, the airway route description for V-6 is corrected to read as follows:

V-6 [Corrected]

From Oakland, CA; INT Oakland 039° and Sacramento, CA, 212° radials; Sacramento; Palisades, CA; Mustang, NV; Lovelock, NV; Battle Mountain, NV; INT Battle Mountain 062° and Wells, NV, 256° radials; Wells; 5 miles, 40 miles, 98 MSL, 85 MSL, Lucin, UT; 43 miles, 85 MSL, Ogden, UT; 11 miles, 50 miles, 105 MSL, Fort Bridger, WY; Rock Springs, WY; 20 miles, 39 miles, 95 MSL, Cherokee, WY; 39 miles, 27 miles, 95 MSL, Medicine Bow, WY; INT Medicine Bow 106° and Sidney, NE, 291° radials; Sidney; North Platte, NE; Grand Island, NE; Omaha, IA; Des Moines, IA; Iowa City, IA; Davenport, IA; INT Davenport 087° and DuPage, IL, 255° radials; to DuPage. From Philipsburg, PA; Selinsgrove, PA; Allentown, PA; Solberg, NJ; INT Solberg 107° and Yardley, PA, 068° radials; INT Yardley 068° and La Guardia, NY, 213° radials; to La Guardia.

Issued in Washington, DC, on June 27, 2023.
Brian Konie,
Acting Manager, Rules and Regulations Group.

[FR Doc. 2023-13967 Filed 6-30-23; 8:45 am]

BILLING CODE 4910-13-P